DEPARTMENT OF HOMELAND SECURITY

Preparedness Directorate; Proposed Collection; Comment Request; FY03 Domestic Preparedness Program—State and Local Survey

AGENCY: Preparedness Directorate, National Preparedness Task Force (NPTF), Department of Homeland Security (DHS).

ACTION: 60-day notice and request for comments.

SUMMARY: The Preparedness Directorate invites the general public and other Federal agencies the opportunity to comment on the reinstatement of a previously approved information collection request (ICR) OMB 1651-0101 FY03 Domestic Preparedness Program, State and Local Survey. This request for comment is being made pursuant to the Paperwork Reduction Act of 1995, (Pub. L. 104-13, 44 U.S.C. chapter 35) as amended by the Clinger-Cohen Act (Pub. L. 104-106).

DATES: Written comments should be received on or before December 11, 2006 to be assured consideration.

ADDRESSES: Direct all written comments to the Preparedness Directorate, NPTF, Attn. Sharon Kushnir, 3801 Nebraska Avenue Complex, Building 3, Washington, DC 20528.

FOR FURTHER INFORMATION CONTACT: Requests for additional information should be directed to the Preparedness Directorate, NPTF, Attn.: Sharon Kushnir, 3801 Nebraska Avenue Complex, Building 3, Washington, DC 20528, Tel. (202) 282-9680 or by electronic mail (e-mail) to: Sharon.kushnir@dhs.gov.

SUPPLEMENTARY INFORMATION: The Preparedness Directorate invites the general public and other Federal Agencies to comment on proposed and/or continuing information collections pursuant to the Paperwork Reduction Act of 1995, (Pub. L. 104-13, 44 U.S.C. chapter 35) as amended by the Clinger-Cohen Act (Pub. L. 104-106). Written comments and suggestions from the public and affected agencies concerning the proposed collection of information should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submissions of responses.

The comments that are submitted will be summarized and included in the request for Office of Management and Budget (OMB) approval. All comments will become a matter of public record. In this document the Preparedness Directorate is soliciting comments concerning the following information collection:

Analysis

Agency: Preparedness Directorate, National Preparedness Task Force (NPTF), Department of Homeland Security (DHS).

Title: FY03 Domestic Preparedness Program, State and Local Survey.

Type of Collection: Reinstatement with change of a previously approved collection.

OMB Number: 1651-0101.

Frequency: On occasion.

Affected Public: Primary: State, Local and Tribal government; Estimated Number of Respondents: 2,059.

Estimated Time Per Respondent: .33 hours.

Total Burden Hours: 12,242.

Total Burden Cost: (capital/startup): $0.

Total Burden Cost: (operating/maintaining): $0.

Description: This data collection will allow states to: (1) Report current jurisdictional needs for equipment, training, exercises and technical assistance; (2) forecast projected needs for this support and (3) identify the gaps that exist at the jurisdictional level in equipment, training and technical assistance that NPTF and other Federal agencies in the formulation of domestic preparedness policies and with the development of programs to enhance State and local first responder capabilities.

Charlie Church,
Chief Information Officer, Preparedness Directorate, Department of Homeland Security.

[FR Doc. E6-16919 Filed 10-11-06; 8:45 am]

BILLING CODE 4410-10-P